DEPARTMENT OF COMMERCE

National Oceanic and Atmospheric Administration

[RTID 0648-XC432]

North Pacific Fishery Management Council; Public Meeting

AGENCY: National Marine Fisheries Service (NMFS), National Oceanic and Atmospheric Administration (NOAA), Commerce.

ACTION: Notice of a public hybrid meeting.

SUMMARY: The North Pacific Fishery Management Council (Council) Bering Sea Fishery Ecosystem Plan Local Knowledge, Traditional Knowledge, and Subsistence Taskforce (LKTKS) will be held November 1, 2022 through November 2, 2022.

DATES: The meeting will be held on Tuesday, November 1, 2022, and on Wednesday, November 2, 2022, from 9 a.m. to 4 p.m., Alaska time.

ADDRESSES: The meetings will be a hybrid meeting. The in-person component of the meeting will be held at the North Pacific Fishery Management Council, 1007 W 3rd Ave., Anchorage, AK 99501-2252 or join the meeting online through the links at https://meetings.npfmc.org/Meeting/Details/2954.

Council address: North Pacific Fishery Management Council, 1007 W 3rd Ave., Anchorage, AK 99501-2252; telephone: (907) 271-2809. Instructions for attending the meeting are given under SUPPLEMENTARY INFORMATION.

FOR FURTHER INFORMATION CONTACT: Kate Haapala, Council staff; phone: (907) 271-2809 and email: kate.haapala@noaa.gov. For technical support, please contact our administrative staff; email: npfmc.admin@noaa.gov.

SUPPLEMENTARY INFORMATION:

Agenda

Tuesday, November 1, 2022, and Wednesday, November 2, 2022

At this meeting, the LKTKS Taskforce will: (a) receive an overview of Taskforce work products, namely the LKTKS protocol which includes the primary guidelines and onramps for identifying, analyzing, and including LKTKS information and expertise in the Council's decision-making process; (b) further develop the protocol and recommendations for LKTKS onramps; (c) discuss next steps and the timeline for remaining work timing of future to meet the Council's objectives for the Taskforce; and (d) other business. The agenda is subject to change, and the latest version will be posted at https://meetings.npfmc.org/Meeting/Details/2954 prior to the meeting, along with meeting materials.

Connection Information

You can attend the meeting online using a computer, tablet, or smart phone; or by phone only. Connection information will be posted online at: https://meetings.npfmc.org/Meeting/Details/2954. If you are attending the meeting in-person, please note that all attendees will be encouraged to wear a mask.

Public Comment

Public comment letters will be accepted and should be submitted electronically to https://meetings.npfmc.org/Meeting/Details/2954 by 12 p.m. Alaska time on Monday, October 31, 2022. An opportunity for oral public testimony will also be provided during the meeting.

Authority: 16 U.S.C. 1801 et seq.

Dated: September 29, 2022.
Rey Israel Marquez,
Acting Deputy Director, Office of Sustainable Fisheries, National Marine Fisheries Service.

[FR Doc. 2022-21517 Filed 10-3-22; 8:45 am]

BILLING CODE 3510-22-P